DEPARTMENT OF HOMELAND SECURITY

Coast Guard

33 CFR Part 117

[Docket No. USCG-2017-0826]

Drawbridge Operation Regulation; Willamette River, Portland, OR

AGENCY: Coast Guard, DHS.

ACTION: Notice of temporary deviation from drawbridge regulation; cancellation.

SUMMARY: The Coast Guard is canceling the temporary deviation concerning the Morrison Bridge across the Willamette River, mile 12.8, at Portland, Oregon. A temporary interim rule has been approved which grants the bridge owner, Multnomah County, an extension of time to replace the bridge decking. The temporary interim rule effectively replaces the temporary deviation.

DATES: The temporary deviation published on September 1, 2017 (82 FR 41520), is cancelled as of October 3, 2017.

ADDRESSES: The docket for this deviation, USCG-2017-0826, is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: On September 1, 2017, we published a temporary deviation entitled “Drawbridge Operation Regulation; Willamette River, Portland, OR” in the Federal Register (82 FR 41520). The temporary deviation provided Multnomah County with additional time to complete necessary bridge repairs. This deviation was authorized under 33 CFR 117.35.

While replacing the bridge decking, the bridge owner's construction crew experienced delays with both material deliveries and machining bolt hole tolerances. Therefore, more time was needed to complete the necessary tests and inspections. The subject temporary deviation was approved by mistake in an attempt to give the bridge owner more time to finish construction. After approval of the temporary deviation it was discovered that 180 days would not be enough time to complete construction. After we approved this temporary deviation, we approved a temporary interim rule in order to provide more time to finish the bridge construction. The temporary interim rule effectively replaces the temporary deviation. Therefore, we are cancelling this temporary deviation; docket number USCG-2017-0826 concerning the Morrison Bridge.

Dated: September 27, 2017.
Steven M. Fischer,
Bridge Administrator, Thirteenth Coast Guard District.

[FR Doc. 2017-21169 Filed 10-2-17; 8:45 am]

BILLING CODE 9110-04-P